DEPARTMENT OF AGRICULTURE

Animal and Plant Health Inspection Service

[Docket No. APHIS-2019-0015]

Notice of Decision To Authorize the Importation of Phalaenopsis spp. Orchid Plants for Planting in Approved Growing Media From the Republic of Costa Rica Into the United States

AGENCY: Animal and Plant Health Inspection Service, USDA.

ACTION: Notice.

SUMMARY: We are advising the public of our decision to authorize the importation into the United States, including territories, of Phalaenopsis spp. orchid plants for planting in approved growing media from the Republic of Costa Rica. As a condition of entry, Phalaenopsis spp. orchid plants in approved growing media from the Republic of Costa Rica will have to meet all relevant requirements included in the U.S. Department of Agriculture Plants for Planting Manual and detailed in a bilateral workplan. This action will allow for the importation of Phalaenopsis spp. orchid plants for planting from the Republic of Costa Rica in approved growing media while providing protection against the introduction of plant pests.

DATES: The plants for planting covered by this notice may be authorized for importation after June 8, 2023.

FOR FURTHER INFORMATION CONTACT: Ms. Indira Singh, Agriculturist, Pest Exclusion and Import Programs, PPQ, APHIS, 4700 River Road Unit 133, Riverdale, MD 20737-1236; (301) 851-2020; indira.singh@usda.gov.

SUPPLEMENTARY INFORMATION:

Background

Under the regulations in “Subpart H—Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States. Quarantine pest is defined in § 319.37-2 as a plant pest or noxious weed that is of potential economic importance to the United States and not yet present in the United States, or present but not widely distributed and being officially controlled. In accordance with § 319.37-20, APHIS may impose quarantines and other restrictions on the importation of specific types of plants for planting. These restrictions are listed in the USDA Plants for Planting Manual.¹

¹ https://www.aphis.usda.gov/import_export/plants/manuals/ports/downloads/plants_for_planting.pdf.

Section 319.37-10 restricts the importation of plants for planting in approved growing media, with exceptions. Paragraph (d) of § 319.37-10 states that certain types of plants for planting, as listed in the USDA Plants for Planting Manual, may be imported when they are established in a growing medium approved by the Administrator and produced in accordance with additional requirements specified in the manual.

On March 3, 2020, we published in the Federal Register (85 FR 12441-12442, Docket No. APHIS-2019-0015) a notice ² proposing to authorize the importation of Phalaenopsis spp. orchid plants from the Republic of Costa Rica in approved growing media into the United States, including territories, subject to all relevant requirements included in the USDA Plants for Planting Manual and in a bilateral workplan agreed to between APHIS and the national plant protection organization (NPPO) of the Republic of Costa Rica.

² To view the notice and supporting documents, go to https://www.regulations.gov/docket/APHIS-2019-0015.

We solicited comments concerning our proposal for 60 days ending May 4, 2020. We did not receive any comments.

Therefore, in accordance with the regulations in § 319.37-10(d), we are announcing our decision to authorize the importation into the United States, including territories, of Phalaenopsis spp. orchid plants for planting in approved growing media from the Republic of Costa Rica subject to the phytosanitary measures listed in the risk management document that accompanied the initial notice. We are adding these phytosanitary measures to the USDA Plants for Planting Manual.

Paperwork Reduction Act

In accordance with the Paperwork Reduction Act of 1995 (44 U.S.C. 3501 et seq.), the burden requirements included in this notice are covered under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Paperwork Reduction Act Specialist, at (301) 851-2483.

Congressional Review Act

Pursuant to the Congressional Review Act (5 U.S.C. 801 et seq.), the Office of Information and Regulatory Affairs designated this rule as not a major rule, as defined by 5 U.S.C. 804(2).

Authority: 7 U.S.C. 1633, 7701-7772, and 7781-7786; 21 U.S.C. 136 and 136a; 7 CFR 2.22, 2.80, and 371.3.

Done in Washington, DC, this 5th day of June 2023.
Michael Watson,
Acting Administrator, Animal and Plant Health Inspection Service.

[FR Doc. 2023-12295 Filed 6-7-23; 8:45 am]

BILLING CODE 3410-34-P